COMMITTEE FOR PURCHASE FROM PEOPLE WHO ARE BLIND OR SEVERELY DISABLED

Procurement List; Additions

AGENCY: Committee for Purchase from People Who Are Blind or Severely Disabled.

ACTION: Additions to procurement list.

SUMMARY: This action adds to the Procurement List products and services to be furnished by nonprofit agencies employing persons who are blind or have other severe disabilities.

EFFECTIVE DATE: May 11, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On August 23, November 1, December 6, December 20, December 27, 2002, January 24, January 31, and February 7, 2003 the Committee for Purchase From People Who Are Blind or Severely Disabled published notice (67 FR 54629, 66607, 72640, 77962, 79045, 68 FR 3508, 4985, and 6403) of proposed additions to the procurement list.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the procurement list.

Accordingly, the following products and services are added to the procurement list:

Products

Product/NSN: MOLLE II Carrier Sleep System

8465-01-465-2124

8465-01-465-7508

NPA: Alabama Industries for the Blind, Talladega, Alabama

NPA: Raleigh Lions Clinic for the Blind, Inc., Raleigh, North Carolina

Contract Activity: Defense Supply Center Philadelphia, Philadelphia, Pennsylvania

Product/NSN: Windsock

8345-00-NSH-0001

NPA: Development Workshop, Inc., Idaho Falls, Idaho

Contract Activity: BLM National Interagency Fire Center, Boise, Idaho

Services

Service Type/Location: Facilities Maintenance, Mississippi Air National Guard, ANG CRTC/LGC, Gulfport, Mississippi

NPA: Mississippi Goodworks, Inc., Gulfport, Mississippi

Contract Activity: Mississippi ANG, Combat Readiness Training Center, Gulfport, Mississippi

Service Type/Location: Housekeeping Services, Veterans Affairs Medical Center, Clarksburg, West Virginia

NPA: Job Squad, Inc., Clarksburg, West Virginia

Contract Activity: Department of Veterans Affairs, Coatesville, Pennsylvania

Service Type/Location: Janitorial/Custodial, DuPage Air Traffic Control Tower, West Chicago, Illinois

NPA: Jewish Vocational Service and Employment Center, Chicago, Illinois

Contract Activity: Federal Aviation Administration, Des Plaines, Illinois

Service Type/Location: Janitorial/Custodial, U.S. Army Reserve Center, Marion, Illinois

NPA: Franklin-Williamson Human Services, Inc., West Frankfort, Illinois

Contract Activity: Headquarters, 88th Regional Support Command, Fort Snelling, Minnesota

Service Type/Location: Janitorial/Custodial, U.S. Geological Survey, Great Lakes Science Center, Ann Arbor, Michigan

NPA: Work Skills Corporation, Brighton, Michigan

Contract Activity: U.S. Geological Survey, Reston Virginia

Service Type/Location: Printer Toner Cartridge & Ribbons Management, Veterans Affairs Medical Center, Danville, Illinois

NPA: Thresholds Rehabilitation Inc., Chicago, Illinois

Contract Activity: Veterans Affairs Medical Center, Danville, Illinois

This action does not affect current contracts awarded prior to the effective date of this addition or options that may be exercised under those contracts.

G. John Heyer,
General Counsel.

[FR Doc. 03-8932 Filed 4-10-03; 8:45 am]

BILLING CODE 6353-01-P